DEPARTMENT OF HEALTH AND HUMAN SERVICES

National Institutes of Health

Center for Scientific Review; Amended Notice of Meeting

Notice is hereby given of a change in the meeting of the Center for Scientific Review Special Emphasis Panel, October 6, 2022, 10:00 a.m. to 6:00 p.m., National Institutes of Health, Rockledge II, 6701 Rockledge Drive, Bethesda, MD 20892, which was published in the Federal Register on September 12, 2022, V 7#175 Page 55826, FR Doc No.2022-19603.

This meeting is being amended to change the meeting date from October 6, 2022, to October 5, 2022. The meeting time and location remains the same. The meeting is closed to the public.

Dated: September 13, 2022.
David W Freeman,
Program Analyst, Office of Federal Advisory Committee Policy.

[FR Doc. 2022-20181 Filed 9-16-22; 8:45 am]

BILLING CODE 4140-01-P